DEPARTMENT OF HEALTH AND HUMAN SERVICES

Centers for Disease Control and Prevention

[30Day-20-20JC]

Agency Forms Undergoing Paperwork Reduction Act Review

In accordance with the Paperwork Reduction Act of 1995, the Centers for Disease Control and Prevention (CDC) has submitted the information collection request titled “Delta Impact Cooperative Agreement Evaluation data collection Instruments” to the Office of Management and Budget (OMB) for review and approval. CDC previously published a “Proposed Data Collection Submitted for Public Comment and Recommendations” notice on 02/28/2020 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

DELTA Impact Cooperative Agreement Evaluation Data Collection Instruments—New—National Center for Injury Prevention and Control (NCIPC), Centers for Disease Control and Prevention (CDC).

Background and Brief Description

The Centers for Disease Control and Prevention (CDC) seeks OMB approval for three years for a new information collection request to collect information from all 10 recipients (State Domestic Violence Coalitions) and all 17 subrecipients (Coordinated Community Response teams) funded through CDC's Domestic Violence Prevention Enhancements and Leadership Through Alliances (DELTA) Impact Program cooperative agreement (NOFO CDC-RFA-CE18-1801). CDC will collect information from DELTA Impact recipients as part of its program evaluation to assess the implementation and impact of the NOFO and further understand the facilitators, barriers, and critical factors to implement specific violence prevention strategies and conduct program evaluation activities.

CDC's DELTA Impact Program is an initiative focused on decreasing IPV risk factors and increasing IPV protective factors by increasing strategic data-driven planning and sustainable use of community and societal level primary prevention activities that address the social determinants of health (SDOH). Strategies described in the NOFO are based on the best available evidence and are included in CDC's technical package on IPV prevention. In addition, the program helps to further develop the evidence-base for community and societal level programs and policy efforts to prevent IPV by increasing the use of program evaluation and existing surveillance data at the state and local level. The goal of this information collection is to support CDC's program evaluation of the implementation and impact of the DELTA Impact NOFO and further understand the facilitators, barriers, and critical factors to implement specific violence prevention strategies and conduct related program evaluation activities. CDC will use information collected to inform its technical assistance, program improvement, and capacity building. It will also use the information to assess progress on NOFO goals and inform the development of future funding opportunities.

Data collection is designed to address the following key program evaluation questions:

1. To what extent have funded Coalitions accomplished the short term and intermediate outcomes in the NOFO Logic Model?

2. To what extent do recipients effectively implement community and societal level primary prevention programs and policy efforts during the project period?

3. To what extent was there an increase in statewide capacity to implement, evaluate and sustain community and societal primary prevention of IPV?

4. What factors are critical to implementing and sustaining community and societal level primary prevention approach to prevent IPV?

CDC will use the information collected across all three years to understand each recipient's experiences and progress toward NOFO outcomes as well as to identify facilitators and barriers to program implementation. In addition, data collected in Project Year 3 and 4 will inform adjustments in the type and level of technical assistance provided to recipients, as needed, to support attainment of the goals of the NOFO. Program evaluation activities allow CDC to identify and disseminate information about successful prevention strategies implemented by recipients. These functions are central to the NCIPC's broad mission of protecting Americans from violence and injury threats. The information collection will allow CDC to monitor the impact of the strategies implemented by the recipients on outcomes related to intimate partner violence prevention. It is also expected to reduce duplication of effort, enhance program impact and maximize the use of federal funds.

Estimated Annualized Burden Hours
Type of respondents | Form name | Number of respondents | Number of responses per respondent | Average burden per response (hours)
DELTA Impact Program Recipients State Domestic Violence Coalitions | Key Informant Interview—Project Lead | 10 | 1 | 1
| Key Informant Interview—Evaluator | 10 | 1 | 45/60
| Subrecipient Survey | 17 | 1 | 30/60
| Prevention Infrastructure Assessment | 10 | 2 | 1

Jeffrey M. Zirger,
Lead, Information Collection Review Office, Office of Scientific Integrity, Office of Science, Centers for Disease Control and Prevention.

[FR Doc. 2020-15653 Filed 7-17-20; 8:45 am]

BILLING CODE 4163-18-P